ENVIRONMENTAL PROTECTION AGENCY

[EPA-HQ-OPP-2010-0001; FRL-8813-1]

Tribal Pesticide Program Council; Notice of Public Meeting

AGENCY: Environmental Protection Agency (EPA).

ACTION: Notice.

SUMMARY: The Tribal Pesticide Program Council (TPPC) will hold a 2-day meeting on Wednesday, March 17, 2010 and Thursday, March 18, 2010. This notice announces the location and times for the meeting and sets forth tentative agenda topics.

DATES: The meeting will be held on Wednesday, March 17, 2010, from 9 a.m. to 5 p.m., and on Thursday, March 18, 2010, from 9 a.m. to 1 p.m.

To request accommodation of a disability, please contact the person listed under FOR FURTHER INFORMATON CONTACT, preferably at least 10 days prior to the meeting, to give EPA as much time as possible to process your request.

ADDRESS: The meeting will be held at the Office of Pesticide Programs (OPP) First Floor Conference Center South S1204-06, 2777 S. Crystal Drive, Arlington, VA 22202.

FOR FURTHER INFORMATION CONTACT: Mary Powell, Field and External Affairs Division (7506P), Office of Pesticide Programs, Environmental Protection Agency, 1200 Pennsylvania Ave., NW., Washington, DC 20460-0001; telephone number: (703) 305-7384; fax number: (703) 308-1850; e-mail address: powell.mary@epa.gov. For information about the TPPC, please see http://www.epa.gov/oppfead1/tribes/tppc.htm.

SUPPLEMENTARY INFORMATION:

I. General Information

A. Does this Action Apply to Me?

You may be interested in this meeting if you are interested in the TPPC's information-exchange relationship with EPA regarding important issues in Indian country related to human and environmental exposure to pesticides and insight into EPA's decision-making process. All parties are invited and encouraged to participate as appropriate. Potentially affected entities may include, but are not limited to, those who use, or conduct testing of, chemical substances under the Federal Insecticide, Fungicide, and Rodenticide Act (FIFRA) or the Federal Food, Drug and Cosmetic Act (FFDCA).

This listing is not intended to be exhaustive, but rather provides a guide for readers regarding entities likely to be affected by this action. Other types of entities not listed in this unit could also be affected. If you have any questions regarding the applicability of this action to a particular entity, consult the person listed under FOR FURTHER INFORMATION CONTACT.

B. How Can I Get Copies of this Document and Other Related Information?

EPA has established a docket for this action under docket ID number EPA-HQ-OPP-2010-0001. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Tentative Agenda Topics

1. Worker Protection Standard.

2. Container/Containment rule.

3. Tribal presentations.

4. EPA regional report.

5. Update on Tribal Integrated Pest Management.

6. Bed bugs.

7. Tribal caucus (TPPC only).

III. How Can I Request to Participate in this Meeting?

You may submit a request to participate in this meeting to the person listed under FOR FURTHER INFORMATION CONTACT. Do not submit any information in your request that is considered CBI. Requests to participate in the meeting, identified by docket ID number EPA-HQ-OPP-2010-0001, must be received on or before [insert date 10 days after date of publication in the Federal Register].

List of Subjects

Environmental protection, Pesticides, Tribes.

Dated: February 22, 2010.
William R. Diamond,
Director, Field and External Affairs Division, Office of Pesticide Programs.

[FR Doc. 2010-4303 Filed 3-2-10; 8:45 a.m.]

BILLING CODE 6560-50-S